DEPARTMENT OF LABOR

Employment and Training Administration

[TA-W-39,456]

Huck Fasteners, Altoona, PA; Notice of Negative Determination Regarding Application for Reconsideration

By application of August 12, 2001 the Laborers' International Union of North America (L.I.U.N.A.), Local 734 requested administrative reconsideration of the Department's negative determination regarding eligibility for workers and former workers of the subject firm to apply for Trade Adjustment Assistance (TAA). The denial notice was signed on June 29, 2001, and published in the Federal Register on July 20, 2001 (66 FR 38026).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition, filed on behalf of workers at Huck Fasteners, Altoona, Pennsylvania producing cold headed, threaded fasteners, was denied because the “contributed importantly” group eligibility requirement of section 222(3) of the Trade Act of 1974, as amended, was not met. The preponderance in the declines in employment at the subject plant is the direct result of all production being transferred to another domestic location. The shift in plant production is attributed to a decision by the company to gain increased profitability through manufacturing efficiency. The investigation further revealed that any fluctuations in plant sales are the direct result of the trend in the production of automobiles for which the subject plant product is produced. The investigation also revealed that the subject company did not import cold headed, threaded fasteners during the relevant period.

The petitioner alleges that the loss of a significant and highly profitable segment of the company's business is due to customers purchasing certain product lines from foreign sources.

An examination of the initial investigation revealed that the firm's fluctuations in sales are minor in relation to the deep layoffs that occurred at the subject plant. Any sales fluctuations are related to reduced demand from the subject firm's major customer base, the automobile industry, which had declining automobile sales during the relevant period. Therefore, imports of products like and directly competitive with that which the subject plant produced did not contribute importantly to the separations at the subject plant.

Based on information acquired from the company during the initial investigation, the preponderance in the declines in employment is related to a decision by the company during the early part of 2001 to shift plant production to an affiliated plant located in Medina, Ohio. The Medina facility produced the same type of products as the Altoona plant. The Altoona plant was a much older facility that lacked expansion potential. The Medina plant had a neighboring building that had significant unused capacity and was well suited for the subject plant's production.

During the initial investigation, management indicated that the shift in production could substantially improve manufacturing efficiency by integrating the Altoona facility into the Medina, Ohio plant. The company further indicated that the products were similar at both locations, the requisite skills of employees are the same and that it is more efficient to run one larger plant than two smaller plants.

Conclusion

After review of the application and investigative findings, I conclude that there has been no error or misinterpretation of the law or of the facts which would justify reconsideration of the Department of Labor's prior decisions. Accordingly, the application is denied.

Dated: Signed at Washington, DC, this 2nd day of January, 2002.
Edward A. Tomchick,
Director, Division of Trade Adjustment Assistance.

[FR Doc. 02-2340 Filed 1-30-02; 8:45 am]

BILLING CODE 4510-30-M